DEPARTMENT OF ENERGY

Federal Energy Regulatory Commission

[Docket No. CP14-70-000]

National Fuel Gas Supply Corporation; Notice of Onsite Environmental Review

On May 28, 2014, the Office of Energy Projects staff will be in Washington, Allegheny and Beaver Counties, Pennsylvania, to gather data related to the environmental analysis of the proposed West Side Expansion and Modernization Project (Project). Staff will examine Project areas by car, which includes segments of the proposed pipeline route. This will assist staff in completing its evaluation of environmental impacts of the proposed project. Viewing of this area is anticipated to be from public access points and National Fuel Gas Supply Corporation's right-of-way.

All interested parties planning to attend must provide their own transportation. Those attending should meet at the following location:

Wednesday, May 28, 2014 at 9:00 a.m., Janoski's Farm and Greenhouse, 1714 U.S. 30, Clinton, PA 15026, (Parking lot).

Please use the FERC's free eSubscription service to keep track of all formal issuances and submittals in this docket. This can reduce the amount of time you spend researching proceedings by automatically providing you with notification of these filings, document summaries, and direct links to the documents. To register for this service, go to www.ferc.gov/docs-filing/esubscription.asp.

Information about specific onsite environmental reviews is posted on the Commission's calendar at http://www.ferc.gov/EventCalendar/EventsList.aspx. For additional information, contact the Office of External Affairs at (866) 208-FERC.

Dated: May 20, 2014.
Kimberly D. Bose,
Secretary.

[FR Doc. 2014-12193 Filed 5-27-14; 8:45 am]

BILLING CODE 6717-01-P